DEPARTMENT OF THE INTERIOR

Bureau of Land Management

[LLNM930000 L51010000.ER0000 LVRWG19G0690 19XL5017AP]

Notice of Intent To Prepare an Environmental Impact Statement and Resource Management Plan Amendments for the SunZia Southwest Transmission Project, New Mexico

AGENCY: Bureau of Land Management, Interior.

ACTION: Notice of intent.

SUMMARY: The Bureau of Land Management (BLM) New Mexico State Office (NMSO), Santa Fe, New Mexico (NM), intends to prepare an Environmental Impact Statement (EIS) to analyze the environmental impacts associated with SunZia's application seeking to amend its right-of-way grant for the SunZia Southwest Transmission Project. Proposed amendments to SunZia's right-of-way grant may require plan amendments to the Socorro Field Office Resource Management Plan, the Las Cruces District Mimbres Resource Management Plan, the Sevilleta National Wildlife Refuge Comprehensive Conservation Plan, and the Cibola National Forest Land and Resource Management Plan, which the agencies will analyze in the EIS. BLM NMSO is the lead agency for purposes of the National Environmental Policy Act (NEPA) analysis with the U.S. Fish & Wildlife Service (FWS), U.S. Forest Service (FS), National Park Service (NPS), and other agencies serving as cooperating agencies. This Notice initiates the scoping process and opens a 30-day public comment period to solicit public comments and identify issues.

DATES: The BLM requests comments concerning the scope of the analysis and identification of relevant information, studies, and analyses. All comments must be received by July 6, 2021.

ADDRESSES: Submit comments electronically via the ePlanning site: https://eplanning.blm.gov/eplanning-ui/project/2011785/510. Comments and requests for additional information may also be sent to Adrian Garcia, Project Manager, Bureau of Land Management, New Mexico State Office, 301 Dinosaur Trail, Santa Fe, NM 87508. Verbal comment may also be submitted via a telephone hotline at 1-888-959-2510.

FOR FURTHER INFORMATION CONTACT: Adrian Garcia, Project Manager, Bureau of Land Management, New Mexico State Office, 301 Dinosaur Trail, Santa Fe, New Mexico 87508, telephone: (505) 954-2199, or email: agarcia@blm.gov. Persons who use a telecommunications device for the deaf (TDD) may call the Federal Relay Service (FRS) at 1-800-877-8339 to contact the above individual during normal business hours. The FRS is available 24 hours a day, 7 days a week, to leave a message or question. You will receive a reply during normal business hours.

SUPPLEMENTARY INFORMATION:

Purpose and Need for the Proposed Action

In compliance with NEPA, and the Federal Land Policy and Management Act of 1976, as amended, the BLM NMSO intends to prepare an EIS to analyze the environmental impacts associated with SunZia Transmission, LLC's (SunZia) application seeking to amend its right-of-way grant for the SunZia Southwest Transmission Project (Project). Proposed amendments to SunZia's right-of-way grant may require plan amendments to the Socorro Field Office Resource Management Plan, the Las Cruces District Mimbres Resource Management Plan, the Sevilleta National Wildlife Refuge Comprehensive Conservation Plan, and the Cibola National Forest Land and Resource Management Plan, which the agencies will analyze in the EIS.

Preliminary Proposed Action and Alternatives

The proposed Project is composed of two planned 500 kilovolt (kV) transmission lines located across approximately 520 miles of Federal, State, and private lands between central New Mexico and central Arizona. The purpose of the Project is to transport up to 4,500 megawatts of primarily renewable energy from New Mexico to markets in Arizona and California. The permitted route originates at a planned substation in Torrance County, New Mexico, and terminates at the existing Pinal Central Substation in Pinal County, Arizona. The Project traverses Lincoln, Socorro, Sierra, Luna, Grant, Hidalgo, Valencia, and Torrance counties in New Mexico and Graham, Greenlee, Cochise, Pinal, and Pima counties in Arizona. The route has four segments:

• Segment 1: Pinal Central Substation to Willow Substation

• Segment 2: Willow Substation to SunZia South Substation (Segment 2a in Arizona, Segment 2b in New Mexico)

• Segment 3: SunZia South Substation to New Mexico Institute of Mining and Technology (NM Tech)

• Segment 4: NM Tech to SunZia East Substation

Prior environmental documents include a Final EIS in 2013 and a Record of Decision and a subsequent Environmental Assessment and Finding of No New Significant Impact in 2015 to accommodate burial of approximately 5 miles of the transmission line in three locations in the vicinity of White Sands Missile Range. The BLM issued a right-of-way (ROW) grant to SunZia in 2016, authorizing use of a 400-foot-wide corridor across 183 miles of Federal lands administered by the BLM. Construction of the lines has not begun.

SunZia is proposing to amend the existing grant in four components:

• Component 1—Localized Route Modifications: Five route modifications in New Mexico in Segments 2 and 3. These five modifications involve BLM-administered land (an increase in route length of approximately 0.8 miles and an additional approximate 38.8 acres). Proposed modifications on non-BLM-administered land involve an increase in route length of approximately 0.8 miles and an additional approximate 38.9 acres. These modifications are being proposed to address a range of issues, including challenges in obtaining a private landowner ROW or easement and topography.

• Component 2—Access Roads and Temporary Work Areas Outside the Granted ROW: Adding a ROW for about 761 miles of existing and new access roads, of which approximately 708.8 miles would be permanent, 52.2 miles would be temporary, and approximately 739.8 acres of temporary work areas that fall outside the permitted 400-foot-wide corridor across both States. About 216.5 miles of access roads are on BLM-administered land (172.3 in New Mexico; 44.2 in Arizona). About 157.7 acres of temporary work areas are located on BLM-administered land in New Mexico and 22.6 in Arizona.

• Component 3—Segment 4 Reroute: A reroute of Segment 4 to accommodate ongoing concerns of White Sands Missile Range, take advantage of an opportunity to partially parallel the Western Spirit 345 kV Transmission Project, and move the eastern substation closer to proposed wind-generation projects. The total length of the currently permitted Segment 4 route is 91.7 miles, of which 20.2 miles are Federal land administered by the BLM. SunZia is considering three alternative routes. Common to all three alternatives are approximately the first 65 miles, from the SunZia East Substation to where the alternative routes diverge. These 65 miles would cross BLM (approximately 0.2 mile), State, and private lands, 33 miles of which are parallel to the proposed Western Spirit 345 kV Transmission Project. The three alternative routes (including the initial 65 miles) are:

○ Alternative Route 1: options ranging from 151.8 to 153.9 miles, would cross approximately 28.1 to 31.5 miles of BLM-administered land and approximately 4.7 miles across the Cibola National Forest administered by the FS.

○ Alternative Route 2: options ranging from 114.9 to 121.5 miles, would cross approximately 5.9 miles of BLM-administered land and 14.2 miles across the Sevilleta National Wildlife Refuge administered by the FWS.

○ Alternative Route 3: options ranging from 118.1 to 125.9 miles, would cross 9 to 9.6 miles of BLM-administered land and approximately 11.6 miles across the Sevilleta National Wildlife Refuge administered by the FWS.

Additionally, the BLM may consider and analyze in detail additional route alternatives through the NEPA process other than those requested by SunZia.

• Component 4—SunZia West Substation: A substation to convert power from DC to AC. SunZia intends for one of the two proposed SunZia transmission lines to be AC and the other transmission line to be either AC or DC. The DC line would require equipment at each terminus to convert the power from AC to DC (SunZia East HVDC converter) and from DC to AC (SunZia West HVDC converter). The SunZia West Substation is being sited along the permitted SunZia ROW on approximately 80.7 acres of Arizona State land just east of Red Rock, Arizona (no Federal ROW is needed).

SunZia states the width of the permanent ROW for the transmission lines typically is a minimum of 400 feet on BLM-administered lands but may be up to 1,000 feet wide in areas with terrain constraints.

Summary of Expected Impacts

Impacts from the proposed action would include ground disturbance-associated impacts to natural and cultural resources; visual impacts; potential impacts to threatened and endangered species at the Rio Grande River crossing, including the Southwestern Willow Flycatcher, Yellow-Billed Cuckoo, and the Silvery Minnow; and socioeconomic effects from construction, operation, and maintenance. If an alternative reroute is selected, Federal agencies may need to amend land use plans. The disciplines to be represented and used to prepare the EIS include, but are not limited to:

• Land use and recreation;

• Visual resources;

• Wilderness, wilderness study areas, lands with wilderness characteristics, and FS designated roadless areas;

• Vegetation/riparian/noxious and invasive weeds/special status plant species, including Threatened and Endangered Species and their habitat;

• General and special-status wildlife species, including Threatened and Endangered Species and their habitat;

• Earth resources (geology, minerals, and soils);

• Water resources;

• Air quality;

• Cultural resources;

• Social and economic conditions;

• Health and safety/hazardous materials;

• Paleontological resources;

• Special designations; and

• Wildland fire ecology and management.

Anticipated Permits and Authorizations

If approved, the BLM would issue a ROW Grant and Temporary Use Permit for Federal lands. Any alternative reroute selected that would cross the Cibola National Forest or the Sevilleta National Wildlife Refuge would require permit approval from the FS and FWS, respectively.

Public Scoping Process

The BLM will initiate a 30-day scoping period beginning with the publication of this Notice of Intent (NOI). The BLM will hold a series of public scoping meetings to begin approximately 15 days after issuance of the NOI.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will continue to consult with Native American tribes on a government-to-government basis in accordance with Executive Order 13175 and other policies. Tribal concerns, including impacts on Indian trust assets and potential impacts to cultural resources, will be given due consideration.

Federal, State, and local agencies, along with Tribes and other stakeholders that may be interested in or affected by the proposed Project that the BLM is evaluating are invited to participate in the scoping process and, if eligible, may request, or be requested by the BLM, to participate in the development of the environmental analysis as a cooperating agency.

Authorization of this proposal may require amendments to the Socorro Field Office Resource Management Plan, the Las Cruces District Mimbres Resource Management Plan, the Sevilleta National Wildlife Refuge Comprehensive Conservation Plan, and the Cibola National Forest Land and Resource Management Plan. By this notice, the BLM is complying with requirements 43 CFR 1610.2(c) to notify the public of potential plan amendments. The BLM will integrate the land use planning process with the NEPA analysis process for this project. A Forest plan amendment may be required for this project. The 2012 Planning Rule (36 CFR part 219) requires consideration of the applicable substantive requirements as described in 36 CFR 219.8 through 219.11 that are directly related to the plan direction being added, modified, or removed by the amendment (36 CFR 219.13).

Request for Identification of Potential Alternatives, Information, Analyses, and Mitigation Measures Relevant to the Proposed Action

The BLM encourages comments concerning the proposed SunZia Southwest Transmission Project, feasible alternatives, possible measures to mitigate, minimize and/or avoid adverse environmental impacts, and any other information relevant to the proposed action. You may submit comments at any time by using one of the methods listed in the ADDRESSES section of this Notice. Public scoping meetings will be conducted virtually with BLM staff to explain project details and gather information from interested individuals or groups. Representatives from SunZia will be available to answer questions. You should submit comments by the close of the 30-day scoping period or 10 days after the last public meeting.

Before including your address, phone number, email address, or other personal identifying information in your comment, you should be aware that your entire comment—including your personal identifying information—may be made publicly available at any time. While you can ask us in your comment to withhold your personal identifying information from public review, we cannot guarantee that we will be able to do so. Any persons wishing to be added to a mailing list of interested parties can call or write to the BLM, as described in this Notice. Additional information meetings may be conducted throughout the process to keep the public informed of the progress of the EIS. (Authority: 40 CFR 1501.7 and 43 CFR 1610.2)

Steven R. Wells,
Acting New Mexico State Director.

[FR Doc. 2021-11788 Filed 6-3-21; 8:45 am]

BILLING CODE 4310-FB-P